DEPARTMENT OF AGRICULTURE

Forest Service

Klamath National Forest, California, Westpoint

AGENCY: Forest Service, USDA.

ACTION: Cancellation notice.

SUMMARY: On June 23, 2006, a Notice of Intent (NOI) to prepare an environmental impact statement (EIS) for the Westpoint Project on the Scott River Ranger District of the Klamath National Forest, was published in the Federal Register (71 FR 36056-36058). The Forest Service has decided to cancel the preparation of this EIS. The NOI is hereby rescinded.

FOR FURTHER INFORMATION CONTACT: Bill Bailey, Timber Management Officer, Salmon/Scott River Ranger District, 11263 N. Highway 3, Fort Jones, CA 96032, telephone (530) 468-5351.

Dated: March 9, 2007.
Margaret J. Boland,
Forest Supervisor, Klamath National Forest.

[FR Doc. 07-1285 Filed 3-15-07; 8:45am]

BILLING CODE 3410-11-M